FEDERAL COMMUNICATIONS COMMISSION

47 CFR Part 73

[DA 00-2424; MM Docket No. 00-88; RM-9871]

Radio Broadcasting Services; Dillsboro and Rosman, NC

AGENCY: Federal Communications Commission.

ACTION: Final rule.

SUMMARY: The Commission, at the request of Sutton Radiocasting Corporation, allots Channel 237A to Dillsboro, NC, as the community's first local aural service. See 65 FR 34997, June 1, 2000. Channel 237A can be allotted to Dillsboro in compliance with the Commission's minimum distance separation requirements with a site restriction of 14.5 kilometers (9 miles) southeast, at coordinates 35-15-56 NL; 83-09-16 WL, to avoid a short-spacing to Stations WIKQ, Channel 235C, Greeneville, TN, and WYFC, Channel 237A, Clinton, TN. The counterproposal of Chase Broadcasting, Inc. to allot Channel 237A to Rosman, NC, as its first local aural service, is dismissed. A filing window for Channel 237A at Dillsboro will not be opened at this time. Instead, the issue of opening a filing window for this channel will be addressed by the Commission in a subsequent order.

DATES: Effective December 11, 2000.

FOR FURTHER INFORMATION CONTACT: Leslie K. Shapiro, Mass Media Bureau, (202) 418-2180.

SUPPLEMENTARY INFORMATION: This is a synopsis of the Commission's Report and Order, MM Docket No. 00-88, adopted October 10, 2000, and released October 27, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Part 73 of title 47 of the Code of Federal Regulations is amended as follows:

47 CFR PART 73—RADIO BROADCAST SERVICES

1. The authority citation for Part 73 continues to read as follows:

Authority: 47 U.S.C. 154, 303, 334 and 336.

§ 73.202 [Amended]

2. Section 73.202(b), the Table of FM Allotments under North Carolina, is amended by adding Dillsboro, Channel 237A.

Federal Communications Commission.
John A. Karousos,
Chief, Allocations Branch, Policy and Rules Division, Mass Media Bureau.

[FR Doc. 00-28889 Filed 11-9-00; 8:45 am]

BILLING CODE 6712-01-U